DEPARTMENT OF COMMERCE

National Oceanic and Atmospheric Administration

RIN 0648-XA363

Marine Mammals; File No. 14352

AGENCY: National Marine Fisheries Service (NMFS), National Oceanic and Atmospheric Administration (NOAA), Commerce.

ACTION: Notice; issuance of permit amendment.

SUMMARY: Notice is hereby given that Dr. Gregory D. Bossart, Georgia Aquarium, 225 Baker Street NW., Atlanta, Georgia 30313 has been issued a minor amendment to Scientific Research Permit No. 14352.

ADDRESSES: The amendment and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

FOR FURTHER INFORMATION CONTACT: Kristy Beard or Amy Sloan, (301) 427-8401.

SUPPLEMENTARY INFORMATION: The requested amendment has been granted under the authority of the Marine Mammal Protection Act of 1972, as amended (16 U.S.C. 1361 et seq.) and the regulations governing the taking and importing of marine mammals (50 CFR part 216).

The original permit (No. 14352), issued on October 15, 2009, authorized health assessments of bottlenose dolphins (Tursiops truncatus) in Florida's Indian River Lagoon system by capturing, sampling, and releasing up to 40 dolphins per year. Captured dolphins may receive a complete clinical workup and a roto tag. Up to ten animals per year may also receive a VHF tag. Samples may be analyzed to examine a variety of health topics. An additional 400 dolphins per year may be harassed during pre- and post-capture surveys in the Indian River Lagoon. The permit would also authorize two accidental mortalities over the five-year permit. The permit was amended on April 1, 2011 (76 FR 20957) to authorize research in Charleston, South Carolina. Fifty bottlenose dolphins may be captured, sampled, and released in Charleston annually. Captured dolphins may receive a health assessment clinical workup and a roto tag. Up to ten animals per year may also receive a VHF tag. Samples may be analyzed to examine a variety of health topics such as: infectious diseases, immune status, contaminant exposure, antibiotic resistance, and genetics. Annually, 400 dolphins may be harassed during pre- and post-capture surveys around Charleston. The permit was amended a second time on April 18, 2012, to allow an additional type of roto tag attachment. The original permit expiration date was October 31, 2014. The minor amendment (No. 14352-03) extends the duration of the permit through October 31, 2015, but does not change any other terms or conditions of the permit.

Dated: January 31, 2014.
P. Michael Payne,
Chief, Permits and Conservation Division, Office of Protected Resources, National Marine Fisheries Service.

[FR Doc. 2014-02397 Filed 2-4-14; 8:45 am]

BILLING CODE 3510-22-P